DEPARTMENT OF COMMERCE

International Trade Administration

[A-570-985]

Xanthan Gum From the People's Republic of China: Final Results of Antidumping Duty Administrative Review, Partial Rescission of the Antidumping Duty Administrative Review, and Final Determination of No Shipments; 2021-2022

AGENCY: Enforcement and Compliance, International Trade Administration, Department of Commerce.

SUMMARY: The U.S. Department of Commerce (Commerce) determines that Fufeng Biotechnologies Co., Ltd. (aka Inner Mongolia Fufeng Biotechnologies Co., Ltd.), Shandong Fufeng Fermentation Co., Ltd., and Xinjiang Fufeng Biotechnologies Co., Ltd. (collectively, Fufeng) and Meihua Group International Trading (Hong Kong) Limited, Langfang Meihua Biotechnology Co., Ltd., and Xinjiang Meihua Amino Acid Co., Ltd. (collectively, Meihua) sold xanthan gum from the People's Republic of China (China) at less than normal value during the period of review (POR), July 1, 2021, through June 30, 2022. Additionally, we find that Jianlong Biotechnology Co., Ltd. (formerly, Inner Mongolia Jianlong Biochemical Co., Ltd) (Jianlong), Deosen Biochemical (Ordos) Ltd./Deosen Biochemical Ltd. (collectively, Deosen), and CP Kelco (Shandong) Biological Company Limited (CP Kelco (Shandong)) have each demonstrated that they are eligible for a separate rate. Further, Commerce is rescinding this review with respect to Deosen USA, Inc. Commerce also determines that three companies for which we initiated reviews had no shipments during the POR.

DATES: Applicable February 6, 2024.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On August 3, 2023, Commerce published the Preliminary Results and invited interested parties to comment.¹ Commerce extended the deadline for these final results by 60 days until January 30, 2024.² For details regarding the events that occurred subsequent to the Preliminary Results, see the Issues and Decision Memorandum.³ Commerce conducted this administrative review in accordance with section 751(a) of the Tariff Act of 1930, as amended (the Act).

¹ See Xanthan Gum from the People's Republic of China: Preliminary Results of the Antidumping Duty Administrative Review, Partial Rescission of the Antidumping Duty Administrative Review, and Preliminary Determination of No Shipments; 2021-2022, 88 FR 51286 (August 3, 2023) (Preliminary Results), and accompanying Preliminary Decision Memorandum (PDM).

² See Memorandum, “Extension of Deadline for Final Results of Antidumping Duty Administrative Review,” dated November 3, 2023.

³ See Memorandum, “Issues and Decision Memorandum for the Final Results of the 2021-2022 Administrative Review of the Antidumping Duty Order on Xanthan Gum from the People's Republic of China,” dated concurrently with, and hereby adopted by, this notice (Issues and Decision Memorandum).

Scope of the Order ⁴

⁴ See Xanthan Gum from the People's Republic of China: Amended Final Determination of Sales at less Than Fair Value and Antidumping Duty Order, 78 FR 43143 (July 19, 2013) (Order).

The product covered by the Order includes dry xanthan gum, whether or not coated or blended with other products. For a full description of the scope of the Order, see the Issues and Decision Memorandum.

Analysis of Comments Received

All issues raised in the case and rebuttal briefs are addressed in the Issues and Decision Memorandum. A list of the issues parties raised and to which we responded in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results, Commerce determined that Beijing Rodia Auto Sport Ltd. (Beijing Rodia), Zamp Inc. dba Z Sports (Z Sports), and Shanghai Smart Chemicals Co. Ltd. (Shanghai Smart) did not have shipments of subject merchandise during the POR.⁵ As we received no information to contradict our preliminary determination with respect to Beijing Rodia, Z Sports, and Shanghai Smart, we continue to find that they made no shipments of subject merchandise to the United States during the POR.

⁵ See Preliminary Results, 88 FR at 51286.

We received no comments regarding our preliminary finding that Deosen Biochemical Ltd. had reviewable transactions during the POR.⁶ Accordingly, we continue to find that Deosen Biochemical Ltd. had reviewable transactions and is subject to this administrative review.⁷

⁶ See Xanthan Gum from the People's Republic of China: Preliminary Results of the Antidumping Duty Administrative Review, and Preliminary Determination of No Shipments; 2017-2018, 84 FR 26813 (June 10, 2019), and accompanying PDM at 6 (citing Memorandum, “Deosen Biochemical Ltd. and Deosen Biochemical (Ordos) Ltd. Affiliation and Single Entity Status,” dated June 4, 2019, unchanged in Xanthan Gum from the People's Republic of China: Final Results of Antidumping Duty Administrative Review and Final Determination of No Shipments; 2017-2018, 84 FR 64831 (November 25, 2019)).

⁷ See Deosen Biochemical Ltd.'s Letter, “Separate Rate Application,” dated October 7, 2022.

Changes Since the Preliminary Results

Based on a review of the record and comments received from interested parties regarding our Preliminary Results, we made certain changes to the preliminary weighted-average dumping margin calculation for Fufeng, Meihua, and three other companies/company groups listed in the “Final Results of Review” section, below. For further discussion of these changes, see the Issues and Decision Memorandum.

Partial Rescission of Administrative Review

Consistent with 19 CFR 351.213(d), Commerce is rescinding this review, in part, with respect to Deosen USA, Inc.

Separate Rates

No parties commented on our preliminary separate rate determination. Therefore, we have continued to grant separate rate status to Fufeng, Meihua, and three other companies/company groups listed in the “Final Results of Review” section, below. Additionally, consistent with the Preliminary Results, we have continued to deny separate rate status to the following companies: A.H.A. International Co., Ltd.; East Chemsources Ltd.; Foodchem Biotech Co., Ltd.; Greenhealth International Co., Ltd. (Hong Kong); Guangzhou Zio Chemical Co., Ltd.; Hangzhou Yuanjia Chemical Co., Ltd.; Hebei Xinhe Biochemical Co., Ltd.; H&H International Forwarders Co.; Nanotech Solutions SDN BHD; Powertrans Freight Systems, Inc.; Qingdao Yalai Chemical Co., Ltd.; Shanghai Tianjia Biochemical Co., Ltd.; Shanxi Reliance Chemicals Co., Ltd.; The TNN Development Ltd.; The TNN Development USA Inc.; Unionchem Corp. Ltd.; Wanping Bio Chem Co., Ltd.; and Weifang Hongyuan Chemical Co., Ltd.⁸

⁸ See Preliminary Results PDM at 13.

Rate for Non-Examined Separate Rate Respondents

The statue and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually-examined respondents, excluding rates that are zero, de minimis, or based entirely on facts available. When the rates for individually examined companies are all zero, de minimis, or based entirely on facts available, section 735(c)(5)(B) of the Act provides that Commerce may use “any reasonable method” to establish the all-others rate.

We calculated a 2.90 percent dumping margin for one of the mandatory respondents in this review, Fufeng, and a 20.63 percent dumping margin for the other mandatory respondent, Meihua. Therefore, we assigned the separate rate respondents, Jianlong, Deosen, and CP Kelco (Shandong), a dumping margin equal to the weighted average of the dumping margins for Fufeng and Meihua, consistent with the guidance in section 735(c)(5)(A) of the Act.⁹

⁹ See the Issues and Decision Memorandum at Comment 10 and Memorandum, “Final Calculation of the Dumping Margin for Respondents Not Selected for Individual Examination,” dated concurrently with, and hereby adopted by, this notice for the discussion of this issue.

Final Results of Review

We determine that the following dumping margins exist for the period July 1, 2021, through June 30, 2022:

Exporter | Weighted-average dumping margin (percent)
Neimenggu Fufeng Biotechnologies Co., Ltd. (aka Inner Mongolia Fufeng Biotechnologies Co., Ltd.)/Shandong Fufeng Fermentation Co., Ltd./Xinjiang Fufeng Biotechnologies Co., Ltd | 2.90
Meihua Group International Trading (Hong Kong) Limited/Langfang Meihua Biotechnology Co., Ltd./Xinjiang Meihua Amino Acid Co., Ltd | 20.63
Jianlong Biotechnology Co., Ltd. (formerly, Inner Mongolia Jianlong Biochemical Co., Ltd) | 3.87
Deosen Biochemical (Ordos) Ltd./Deosen Biochemical Ltd | 3.87
CP Kelco (Shandong) Biological Company Limited | 3.87

Disclosure

Pursuant to 19 CFR 351.224(b), we will disclose the calculations we performed for these final results to the parties to this proceeding within five days of the publication of this notice in the Federal Register.

Assessment Rates

Pursuant to section 751(a)(2)(C) of the Act and 19 CFR 351.212(b)(1), Commerce will determine, and U.S. Customs and Border Protection (CBP) shall assess, antidumping duties on all appropriate entries of subject merchandise covered by the final results of this review. Commerce intends to issue assessment instructions to CBP no earlier than 35 days after the publication date of these final results in the Federal Register. If a timely summons is filed at the U.S. Court of International Trade, the assessment instructions will direct CBP not to liquidate relevant entries until the time for parties to file a request for a statutory injunction has expired (i.e., within 90 days of publication).

For Fufeng and Meihua, Commerce will calculate importer-specific assessment rates for antidumping duties, in accordance with 19 CFR 351.212(b)(1). Where the respondent reported reliable entered values, Commerce intends to calculate importer-specific ad valorem assessment rates by aggregating the amount of dumping calculated for all U.S. sales to the importer and dividing this amount by the total entered value of the merchandise sold to the importer.¹⁰ Where the respondent did not report entered values, Commerce will calculate importer-specific assessment rates by dividing the amount of dumping for reviewed sales to the importer by the total quantity of those sales. Commerce will calculate an estimated ad valorem importer-specific assessment rate to determine whether the per-unit assessment rate is de minimis (i.e., 0.50 percent or below); however, Commerce will use the per-unit assessment rate where entered values were not reported.¹¹ Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.¹²

¹⁰ See 19 CFR 351.212(b)(1).

¹¹ Id.

¹² See 19 CFR 351.106(c)(2).

For entries submitted by an exporter individually examined during this review that were not reported in the U.S. sales database, but that entered under the case number of that exporter (i.e., at the individually-examined exporter's cash deposit rate), Commerce will instruct CBP to liquidate such entries at the China-wide entity rate (i.e., 154.07 percent).¹³

¹³ See Order, 78 FR at 43144.

For respondents not individually examined in this administrative review that qualified for a separate rate (i.e., Jianlong, Deosen, and CP Kelco (Shandong)), the assessment rate will be the weighted average of the dumping margin assigned to the mandatory respondents (i.e., Fufeng and Meihua) in these final results of this review.

For the respondents not eligible for a separate rate that are part of the China-wide entity, we intend to instruct CBP to apply an ad valorem assessment rate of 154.07 percent (i.e., the China-wide entity rate) to all entries of subject merchandise exported by these companies during the POR.

Additionally, if Commerce determines that an exporter under review had no shipments of the subject merchandise, any suspended entries that entered under that exporter's case number will be liquidated at the China-wide entity rate.

Cash Deposit Requirements

Pursuant to section 751(a)(2)(C) of the Act, the cash deposit requirements effective for shipments of the subject merchandise entered, or withdrawn from warehouse, for consumption on or after the publication date of the final results of review will be as follows: (1) for the exporters listed in the table above, the cash deposit rate will be the rate indicated; (2) for previously investigated or reviewed exporters of subject merchandise not listed in the table above that have separate rates, the cash deposit rate will continue to be the most recently published exporter-specific rate; (3) for all China exporters of subject merchandise that have not been found to be entitled to a separate rate, the cash deposit rate will be the rate previously established for the China-wide entity (154.07 percent); and (4) for all non-China exporters of subject merchandise which have not received their own rate, the cash deposit rate will be the rate applicable to the China exporter that supplied that non-China exporter. The cash deposit requirements, when imposed, shall remain in effect until further notice.

Notification of Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a final reminder to parties subject to an administrative protective order (APO) of their responsibility to return or destroy proprietary information disclosed under an APO in accordance with 19 CFR 351.305(a)(3). Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: January 30, 2024.
Abdelali Elouaradia,
Deputy Assistant Secretary for Enforcement and Compliance.

Appendix

List of Topics Discussed in the Issues and Decision Memorandum

I. Summary

II. Background

III. Scope of the Order

IV. Changes to the Preliminary Results

V. Discussion of the Issues

Comment 1: Whether Commerce Selected an Incorrect Surrogate Value (SV) for Valuing Bean Pulp

Comment 2: Whether Commerce Double Counted Energy

Comment 3: Whether Commerce Should Have Selected Other Financial Statements and Averaged Their Ratios

Comment 4: The Cohen's d Test

Comment 5: Whether Commerce Should Have Selected a Different Source for Water SVs

Comment 6: Whether SAM HPRP Chemicals, Inc. d/b/a SAM Nutrition (SAM) Provided Sufficient Record Evidence to Support Commerce's Finding that SAM Was a Wholesaler of Domestic Like Product during the POR

Comment 7: Whether SAM Acted to the Best of Its Ability to Respond to Commerce's Questionnaires

Comment 8: Whether Commerce Should Exclude Deosen USA, Inc. from the Review

Comment 9: Whether Commerce Should Rescind the Review with Respect to Deosen Biochemical Ltd.

Comment 10: Whether Commerce Correctly Calculated the Separate Rate

VI. Recommendation

[FR Doc. 2024-02298 Filed 2-5-24; 8:45 am]

BILLING CODE 3510-DS-P